DEPARTMENT OF ENERGY

Federal Energy Regulatory Commission

Notice of Effectiveness of Exempt Wholesale Generator and Foreign Utility Company Status

Blythe Solar III, LLC | EG20-74-000
Blythe Solar VI, LLC | EG20-75-000
ENGIE Long Draw Solar LLC | EG20-76-000
FirstEnergy Nuclear Generation, LLC | EG20-77-000
Cambria Wind, LLC | EG20-78-000
Thunderhead Wind Energy LLC | EG20-79-000
Great Bay Solar II, LLC | EG20-80-000
Pegasus Wind A, LLC | EG20-81-000
Cove Mountain Solar, LLC | EG20-82-000
Cove Mountain Solar 2, LLC | EG20-83-000
SR Terrell, LLC | EG20-84-000
Diamond Leaf Energy, LLC | EG20-85-000
Tejas Power Generation, LLC | EG20-86-000
Peetz Table Wind, LLC | EG20-87-000
Blauracke GmbH | FC20-3-000
Energy Center Caguas LLC | FC20-4-000

Take notice that during the month of April 2020, the status of the above-captioned entities as Exempt Wholesale Generators or Foreign Utility Companies became effective by operation of the Commission's regulations. 18 CFR 366.7(a) (2019).

Dated: May 14, 2020.
Nathaniel J. Davis, Sr.,
Deputy Secretary.

[FR Doc. 2020-10847 Filed 5-19-20; 8:45 am]

BILLING CODE 6717-01-P